ENVIRONMENTAL PROTECTION AGENCY

[EPA-HQ-OPP-2006-0936; FRL-8104-4]

Notice of Filing of Pesticide Petitions for Establishment of Regulations for Residues of Pesticide Chemicals in or on Various Commodities

AGENCY: Environmental Protection Agency (EPA).

ACTION: Notice.

SUMMARY: This notice announces the initial filing of pesticide petitions proposing the establishment or amendment of regulations for residues of pesticide chemicals in or on various commodities.

DATES: Comments must be received on or before January 19, 2007.

ADDRESSES: Submit your comments, identified by docket identification (ID) number and pesticide petition (PP) number, by one of the following methods. Refer to Unit II. for specific docket ID numbers for each pesticide petition.

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

Instructions: Direct your comments to the assigned docket ID number for the pesticide petition. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805.

FOR FURTHER INFORMATION CONTACT: The person listed at the end of the pesticide petition summary of interest.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

II. Docket ID Numbers

When submitting comments, please use the docket ID number assigned to the pesticide petition.

PP number | Docket ID number
PP 0F6095 | EPA-HQ-OPP-2006-0965
PP 2F2469 | EPA-HQ-OPP-2006-0205
PP 6E7079 | EPA-HQ-OPP-2006-0658
PP 6E7083 | EPA-HQ-OPP-2006-0791
PP 6F7084 | EPA-HQ-OPP-2006-0576
PP 6E7108 | EPA-HQ-OPP-2006-0968
PP 6E7116 | EPA-HQ-OPP-2006-0968
PP 6F7117 | EPA-HQ-OPP-2006-0890
PP 9F6023 | EPA-HQ-OPP-2006-0576
PP 9F5066 | EPA-HQ-OPP-2006-0576

III. What Action is the Agency Taking?

EPA is printing a summary of pesticide petitions received under section 408 of the Federal Food, Drug, and Cosmetic Act (FFDCA), 21 U.S.C. 346a, proposing the establishment or amendment of regulations in 40 CFR part 180 for residues of pesticide chemicals in or on various food commodities. EPA has determined that these pesticide petitions contain data or information regarding the elements set forth in FFDCA section 408(d)(2); however, EPA has not fully evaluated the sufficiency of the submitted data at this time or whether the data support granting of the pesticide petitions. Additional data may be needed before EPA rules on these pesticide petitions.

Pursuant to 40 CFR 180.7(f), a summary of the petitions included in this notice, prepared by the petitioner along with a description of the analytical method available for the detection and measurement of the pesticide chemical residues is available on EPA's Electronic Docket at http://www.regulations.gov/. To locate this information on the home page of EPA's Electronic Docket, select “Quick Search” and type the OPP docket ID number assigned to the pesticide petition. Once the search has located the docket, clicking on the “Docket ID” will bring up a list of all documents in the docket for the pesticide including the petition summary.

A. Establishment of Tolerances

1. PP 0F6095. (Docket ID number EPA-HQ-OPP-2006-0965). Bayer CropScience, 2 T.W. Alexander Drive, Research Triangle Park, NC 27709, proposes to establish a tolerance for residues of the herbicide flufenacet (N-(4-fluorophenyl)-N-(1-methylethyl)-2-[[5-(trifluoromethyl)-1,3,4-thiadiazol-2-yl]oxy]acetamide and its metabolites containing the 4-fluoro-N-methylethyl benzenamine moiety in or on the food commodities: Corn, sweet, forage at 0.4 parts per million (ppm); corn, sweet, kernel plus cob with husks removed at 0.05 ppm; corn, sweet, stover at 0.4 ppm; wheat, forage at 10.0 ppm; wheat, grain at 1.0 ppm; wheat, hay at 2.0 ppm; wheat, straw at 0.5 ppm; seed-grass, forage at 7.0 ppm; seed-grass, forage, regrowth at 0.1 ppm; seed-grass, hay, regrowth at 0.5 ppm. Gas chromatography/mass spectrometry with selected ion monitoring is used to measure and evaluate the chemical residue(s). Contact: Jim Tompkins; telephone number (703) 305-5697; e-mail address:tompkins.jim@epa.gov.

2. PP 2F2469. (Docket ID number EPA-HQ-OPP-2006-0205). Gowan Company, P.O. Box 5569, Yuma, AZ 85366, proposes to amend 40 CFR 180.479(a)(2) to establish tolerances for residues of the herbicide halosulfuron-methyl, methyl 5-[(4,6-dimethoxy-2-pyrimidinyl) amino]carbonylaminosulfonyl-3-chloro-1-methyl-1H-pyrazole-4-carboxylate, in or on the raw agricultural commodities alfalfa, forage at 1.0 parts per million (ppm) and alfalfa, hay at 2.0 ppm. Gas chromatography (GC) with nitrogen-specific detection is used to measure and evaluate the chemical residues.

It is also proposed by EPA to correct the tolerance expression in 40 CFR 180.479(a)(1) to read “Tolerances are established for residues of the herbicide halosulfuron-methyl, methyl 5-[(4,6-dimethoxy-2-pyrimidinyl) amino]carbonylaminosulfonyl-3-chloro-1-methyl-1H-pyrazole-4-carboxylate, and its metabolites determined as 3-chloro-1-methyl-5-sulfamoylpyrazole-4-carboxylic acid, expressed as halosulfuron-methyl equivalents.” Contact: Vickie Walters; telephone number: (703) 305-5704; e-mail address: walters.vickie@epa.gov.

3. PP 6E7079. (Docket ID number EPA-HQ-OPP-2006-0658). BASF Corporation, 100 Campus Drive, Florham Park, NJ 07932, proposes to establish exemptions from the requirement of a tolerance for residues of the polymer of 2-ethyl-2-(hydroxymethy)-1,3 propanediol, oxirane, methyloxirane, 1,2 epoxyalkane; (1,2 epoxyalkane is either 1,2-epoxydodecane (CAS Registration No. 903890-89-1), 1,2 epoxyhexadecane (CAS Registration No. 903890-90-4) or 1,2 epoxyhexadecane (CAS Registration No. 893427-80-0) as inert ingredients in pesticide products. Because this petition is a request for an exemption from the requirement of tolerances without numerical limitations, no analytical methods are required. Contact: Bipin Gandhi; telephone number: (703) 308-8380,e-mail address: gandhi.bipin@epa.gov.

4. PP 6E7083 (Docket ID number EPA-HQ-OPP-2006-0791). Alco Chemical, 122 C St., NW., Suite 740, Washington, DC 20001, proposes to establish an exemption from the requirement of a tolerance for residues of amylopectin, acid hydrolyzed, 1-octenylbutanedioate (CAS Registration No. 113894-85-2) and amylopectin, hydrogen 1-octadecenylbutanedioate (CAS Registration No. 125109-81-1), in or on food commodities when used as an inert ingredient in pesticide products. Because this petition is a request for an exemption from the requirement of a tolerance without numerical limitations, no analytical method is required. Contact: Bipin Gandhi; telephone number: (703) 308-8380, e-mail address:gandhi.bipin@epa.gov.

5. PP 6F7084. (Docket ID number EPA-HQ-OPP-2006-0576). Sipcam Agro USA, Inc., 300 Colonial Center Parkway, # 230, Roswell, GA 30076, proposes to establish a tolerance for residues of the fungicide tetraconazole in or on the food commodity pecan at 0.05 ppm. High Pressure Liquid Chromatography (HPLC) with a Mass Spectrometer (MS) detector is used to measure and evaluate the chemical residue(s). Contact: Lisa Jones; telephone number: (703) 308-9424; e-mail address: jones.lisa@epa.gov.

6. PP 6E7108. (Docket ID number EPA-HQ-OPP-2006-0968). Interregional Research Project No. 4 (IR-4), 500 College Road East, Suite 201 W, Princeton, NJ 08540, proposes to establish tolerances for residues of the insecticide imidacloprid (1-[6-chloro-3-pyridinyl) methyl]-N-nitro-2-imidazolidinimine) and its metabolites containing the 6-chloropyridinyl moiety, all expressed as 1-[(6-chloro-3-pyridinyl)methyl]-N-nitro-2-imidazolidinimine in or on the food commodities caneberry subgroup 13A and raspberry, wild at 2.5 ppm. Contact: Barbara Madden; telephone number: (703) 305-6463; e-mail address: madden.barbara@epa.gov.

7. PP 6E7116. (Docket ID number EPA-HQ-OPP-2006-0968). Interregional Research Project No. 4 (IR-4), 500 College Road East, Suite 201 W, Princeton, NJ 08540, proposes to establish tolerances for residues of the insecticide imidacloprid (1-[6-chloro-3-pyridinyl) methyl]-N-nitro-2-imidazolidinimine) and its metabolites containing the 6-chloropyridinyl moiety, all expressed as 1-[(6-chloro-3-pyridinyl)methyl]-N-nitro-2-imidazolidinimine in or on the food commodities peanut at 0.45 parts ppm; peanut, hay at 70 ppm; peanut, meal at 0.9 ppm; kava, roots at 0.4 ppm; kava, leaves at 4.0 ppm; millet, pearl, grain at 0.05 ppm; millet, proso, grain at 0.05 ppm and oat, grain at 0.05 ppm.

For both petitions a common moiety method for imidacloprid and its metabolites containing the 6 chloropyridinyl moiety using a permanganate oxidation, silyl derivatization, and capillary gas chromatography/mass spectroscopy (GC/MS) selective ion monitoring is used to measure and evaluate the chemical residues. This method has successfully passed a petition method validation in EPA labs. There is a confirmatory method specifically for imidacloprid and several metabolites utilizing GC/MS and high-performance liquid chromatography/ultraviolet (HPLC/UV) which has been validated by the EPA as well. Contact: Barbara Madden, telephone number: (703) 305-6463; e-mail address: madden.barbara@epa.gov.

8. PP 6F7117. (Docket ID number EPA-HQ-OPP-2006-0890). Valent U.S.A. Corporation, 1600 Riviera Ave., Suite 200, Walnut Creek, CA 94596, proposes to establish tolerances for residues of the herbicide clethodim, (E)-()-2-[1-[[(3-chloro-2-propenyl)oxy]imino]propyl]-5-[2-(ethylthio)propyl]-3-hydroxy-2-cyclohexen-1-one and its metabolites containing the 5-[2-(ethylthio)propyl] cyclohexen-3-one and the 5-[2-(ethylthio)propyl]-5-hydroxycyclohexen-3-one moieties and their sulfoxides and sulfones, expressed as clethodim, in or on the raw agricultural commodities corn, field, forage at 0.2 ppm, corn, field, grain at 0.2 ppm, and corn, field, stover at 0.2 ppm. An analytical method was developed to measure the clethodim and its metabolites in field corn by gas chromatography with a flame photometric detector. Contact: Joanne I. Miller; telephone number: (703) 305-6224; e-mail address: Miller.Joanne@epa.gov.

9. PP 9F6023. (Docket ID number EPA-HQ-OPP-2006-0576). Sipcam Agro USA, Inc., 300 Colonial Center Parkway, # 230, Roswell, GA 30076, proposes to establish a tolerance for residues of the fungicide tetraconazole in or on the food commodities peanut, nutmeat at 0.05 ppm and peanut, refined oil at 0.15 ppm. High Pressure Liquid Chromatography (HPLC) with a Mass Spectrometer (MS) detector is used to measure and evaluate the chemical residues. Contact: Lisa Jones; telephone number: (703) 308-9424; e-mail address: jones.lisa@epa.gov.

B. Amendment to an Existing Tolerance

PP 9F5066. (Docket ID number EPA-HQ-OPP-2006-0576). Sipcam Agro USA, Inc., 300 Colonial Center Parkway, # 230, Roswell, GA 30076, proposes to amend the tolerance(s) in 40 CFR 180.557 for residues of the fungicide tetraconazole in or on the food commodities sugarbeet roots at 0.05 ppm; sugarbeet top at 3.0; sugarbeet dried pulp at 0.15 ppm; sugarbeet molasses at 0.15 ppm; meat of cattle, goat, horse and sheep at 0.05 ppm; liver of cattle, goat, horse and sheep at 4.0 ppm; fat of cattle, goat, horse and sheep at 0.30 ppm; meat byproducts, except liver, of cattle, goat, horse and sheep at 0.10 ppm; and milk at 0.05 ppm. High Pressure Liquid Chromatography (HPLC) with a Mass Spectrometer (MS) detector is use to measure and evaluate the chemical residue(s). Contact: Lisa Jones; telephone number: (703) 308-9424; e-mail address: jones.lisa@epa.gov.

List of Subjects

Environmental protection, Agricultural commodities, Feed additives, Food additives, Pesticides and pests, Reporting and recordkeeping requirements.

Dated: December 12, 2006.
Lois Rossi,
Director, Registration Division, Office of Pesticide Programs.

[FR Doc. E6-21710 Filed 12-19-06; 8:45 am]

BILLING CODE 6560-50-S